DEPARTMENT OF LABOR

Employment and Training Administration

[TA-W-60,301]

D-M-E Company, Charlevoix Plant, a Subsidiary of Milacron, Inc., Including On-Site Leased Workers of Aerotek, Charlevoix, MI; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on November 8, 2006, applicable to workers of D-M-E Company, Charlevoix Plant, a subsidiary of Milacron, Inc., Charlevoix, Michigan. The notice was published in the Federal Register on November 28, 2006 (71 FR 68844).

At the request of the State agency, the Department reviewed the certification for workers of the subject firm. The workers are engaged in the production of pins and sleeves (i.e., tooling for plastics).

New information shows that leased workers of Aerotek were employed on-site at the Charlevoix, Michigan location of D-M-E Company, Charlevoix Plant, a subsidiary of Milacron, Inc.

Based on these findings, the Department is amending this certification to include leased workers of Aerotek working on-site at D-M-E Company, Charlevoix Plant, a subsidiary of Milacron, Inc., Charlevoix, Michigan.

The intent of the Department's certification is to include all workers employed at D-M-E Company, Charlevoix Plant, a subsidiary of Milacron, Inc., Charlevoix, Michigan who were adversely affected by increased company imports.

The amended notice applicable to TA-W-60,301 is hereby issued as follows:

All workers of D-M-E Company, Charlevoix Plant, a subsidiary of Milacron, Inc., including on-site leased workers of Aerotek, Charlevoix, Michigan, who became totally or partially separated from employment on or after October 25, 2005, through November 8, 2008, are eligible to apply for adjustment assistance under Section 223 of the Trade Act of 1974, and are also eligible to apply for alternative trade adjustment assistance under Section 246 of the Trade Act of 1974.

Signed at Washington, DC this 18th day of January, 2007.
Elliott S. Kushner,
Certifying Officer, Division of Trade Adjustment Assistance.

[FR Doc. E7-1074 Filed 1-24-07; 8:45 am]

BILLING CODE 4510-30-P